DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 15, 2008.

Interested persons are invited to submit written comments regarding the subject matter of the investigations to the Director, Division of Trade Adjustment Assistance, at the address shown below, not later than September 15, 2008.

The petitions filed in this case are available for inspection at the Office of the Director, Division of Trade Adjustment Assistance, Employment and Training Administration, U.S. Department of Labor, Room C-5311, 200 Constitution Avenue, NW., Washington, DC 20210.

Signed at Washington, DC, this 27th day of August 2008.
Linda G. Poole,
Certifying Officer, Division of Trade Adjustment Assistance.

Appendix
[TAA petitions instituted between 8/18/08 and 8/22/08]
TA-W | Subject firm (Petitioners) | Location | Date of institution | Date of petition
63882 | Kohler (UAW) | Searcy, AR | 08/18/08 | 08/15/08
63883 | Metaldyne (Wkrs) | Ridgway, PA | 08/18/08 | 08/11/08
63884 | Lan-Tex, Inc. (Comp) | Statesville, NC | 08/18/08 | 08/15/08
63885 | Cochrane Furniture Company (Comp) | Lincolnton, NC | 08/18/08 | 08/15/08
63886 | Geo Specialty Chemicals (State) | Gibbsboro, NJ | 08/18/08 | 08/15/08
63887 | Sun Microsystems, Inc. (State) | Broomfield, CO | 08/18/08 | 08/15/08
63888 | JCIM (Wkrs) | Franklin, TN | 08/18/08 | 08/07/08
63889 | Harris Stratex (Wkrs) | San Jose, CA | 08/18/08 | 08/05/08
63890 | New Process Gear (Wkrs) | East Syracuse, NY | 08/18/08 | 08/14/08
63891 | Fluid Routing Solutions (UAW) | Detroit, MI | 08/18/08 | 08/14/08
63892 | Display Pack, Inc. (Wkrs) | Grand Rapids, MI | 08/19/08 | 08/12/08
63893 | Ingersoll-Rand/Harrow Products (State) | New Haven, CT | 08/19/08 | 08/18/08
63894 | Unicord International, LLC (State) | Guntown, MS | 08/19/08 | 08/11/08
63895 | Sewall Gear Manufacturing (State) | St. Paul, MN | 08/19/08 | 08/18/08
63896 | Neoconix (State) | Sunnyvale, CA | 08/19/08 | 08/11/08
63897 | IACNA (Comp) | Canton, OH | 08/19/08 | 08/18/08
63898 | Magna Services of America, Inc. (State) | Troy, MI | 08/19/08 | 08/18/08
63899 | Hughes Hardwood International, Inc. (Comp) | Collinwood, TN | 08/19/08 | 08/18/08
63900 | Berne Furniture Company (Wkrs) | Berne, IN | 08/19/08 | 08/15/08
63901 | Southern Motion, Inc. (Comp) | Pontotoc, MS | 08/19/08 | 08/18/08
63902 | Belden (Wkrs) | Richmond, IN | 08/19/08 | 06/18/08
63903 | Gramercy Jewelry Manufacturing Corp (Comp) | New York, NY | 08/19/08 | 08/19/08
63904 | Nestaway, LLC (UAW) | Cleveland, OH | 08/20/08 | 08/19/08
63905 | ConAgra Foods (Wkrs) | Omaha, NE | 08/20/08 | 08/18/08
63906 | Bel Power, Inc. (Comp) | Westboro, MA | 08/20/08 | 08/19/08
63907 | Rayloc (Wkrs) | Williamsport, MD | 08/20/08 | 08/19/08
63908 | Becker, Inc., Manufacturing (IAMAW) | Kenosha, WI | 08/20/08 | 08/15/08
63909 | Auxora, Inc. (State) | Baldwin Park, CA | 08/20/08 | 07/24/08
63910 | Magna Services of America, Inc. (Magna Int'l) (State) | Greenville, MI | 08/20/08 | 08/18/08
63911 | Cypress Semiconductor (Texas), Inc. (Comp) | Round Rock, TX | 08/20/08 | 08/19/08
63912 | Harley-Davidson Motor Co. (Wkrs) | York, PA | 08/20/08 | 08/13/08
63913 | Five Rivers Electronic Innovations, LLC (Comp) | Greeneville, TN | 08/21/08 | 08/19/08
63914 | Less Labor, Inc. (Comp) | Hopkinsville, KY | 08/21/08 | 08/20/08
63915 | Thermo King of Puerto Rico (State) | Arecibo, PR | 08/21/08 | 08/13/08
63916 | Walker Bay Boats (Comp) | Yakima, WA | 08/21/08 | 08/19/08
63917 | Materials Management, Inc. (Comp) | Easley, SC | 08/22/08 | 08/21/08
63918 | Atlantic Wire Company (State) | Branford, CT | 08/22/08 | 08/21/08
63919 | Varian, Inc. (Wkrs) | Walnut Creek, CA | 08/22/08 | 08/21/08
63920 | Sealy Mattress Company (Comp) | Clarion, PA | 08/22/08 | 08/21/08
63921 | Nobel Automative TN, LLC (Wkrs) | Paris, TN | 08/22/08 | 08/15/08
63922 | Kongsberg Automotive, Inc. (Comp) | Selmer, TN | 08/22/08 | 08/21/08
63923 | Vanguard Furniture (Comp) | Conover, NC | 08/22/08 | 08/21/08

[FR Doc. E8-20343 Filed 9-2-08; 8:45 am]

BILLING CODE 4510-FN-P